DEPARTMENT OF EDUCATION

Submission for OMB Review; Comment Request

AGENCY: Department of Education.

SUMMARY: The IC Clearance Official, Regulatory Information Management Services, Office of Management invites comments on the submission for OMB review as required by the Paperwork Reduction Act of 1995.

DATES: Interested persons are invited to submit comments on or before May 1, 2008.

ADDRESSES: Written comments should be addressed to the Office of Information and Regulatory Affairs, Attention: Education Desk Officer, Office of Management and Budget, 725 17th Street, NW., Room 10222, Washington, DC 20503. Commenters are encouraged to submit responses electronically by e-mail to oira_submission@omb.eop.gov or via fax to (202) 395-6974. Commenters should include the following subject line in their response “Comment: [insert OMB number], [insert abbreviated collection name, e.g., “Upward Bound Evaluation”].” Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. OMB invites public comment.

Dated: March 26, 2008.
Angela C. Arrington,
IC Clearance Official, Regulatory Information Management Services, Office of Management and Budget.

Office of Vocational and Adult Education

Type of Review: New collection.

Title: Promoting Rigorous Career and Technical Education Programs of Study Through Statewide or Multi-State Articulation Agreements (1894-0001).

Frequency: Annually.

Affected Public:

Reporting and Recordkeeping Hour Burden:

Responses: 89.

Burden Hours: 3,560.

Abstract: Section 122(c)(1)(9A) of the Carl D. Perkins Vocational and Technical Education Improvement Act of 2006 authorizes the Department to establish and carry out a program of national leadership activities to enhance the quality of career and technical education programs of study nationwide. Many State and local education agencies have developed a variety of career and technical education programs of study to be offered as an option to students when planning for and completing future coursework, for career and technical content areas. These career and technical education programs of study are designed to outline rigorous academic and technical course standards that when completed assist students to successfully transition from secondary to postsecondary education, and between postsecondary institutions. While the Department is generally aware of these efforts, there is little documentation of the level of rigor or effectiveness of the technical courses within programs of study. This discretionary grant competition is intended to enhance the quality and rigor of career and technical education programs of study by facilitating the formation of effective partnerships between secondary and postsecondary education, State workforce agencies, and employers, to create statewide or multi-state articulation agreements. Articulation agreements ensure strong collaboration and on-going communication between the partners to identify course standards that align with the expectations of postsecondary education and employers allowing for “seamless” transitions from secondary to postsecondary education, and between postsecondary institutions.

This information collection is being submitted under the Streamlined Clearance Process for Discretionary Grant Information Collections (1890-0001). Therefore, the 30-day public comment period notice will be the only public comment notice published for this information collection.

Requests for copies of the information collection submission for OMB review may be accessed from http://edicsweb.ed.gov, by selecting the “Browse Pending Collections” link and by clicking on link number 3646. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-6588 Filed 3-31-08; 8:45 am]

BILLING CODE 4000-01-P